DEPARTMENT OF COMMERCE

National Oceanic and Atmospheric Administration

[I.D. 112305C]

Fisheries of the Exclusive Economic Zone Off Alaska; Public Workshop

AGENCY: National Marine Fisheries Service (NMFS), National Oceanic and Atmospheric Administration (NOAA), Commerce.

ACTION: Notice; public workshop.

SUMMARY: NMFS will present a workshop on proposed catch-monitoring standards for the non-American Fisheries Act (AFA) trawl catcher/processor sector. These standards are necessary to support proposed groundfish and prohibited species allocations to these sectors that are under consideration by the North Pacific Fishery Management Council.

DATES: The workshop will be held on December 16, 2005, from 10 a.m. to 1 p.m. local time.

ADDRESSES: The workshop will be held at the Nordby Center, in Fishermen's terminal, 1711 W Nickerson St., Seattle, WA.

FOR FURTHER INFORMATION CONTACT: Alan Kinsolving, 928-774-4362.

SUPPLEMENTARY INFORMATION: The North Pacific Fisheries Management Council is developing proposed Amendment 80 to the Groundfish of the Bering Sea and Aleutian Islands Management Area Fishery Management Plan (FMP). Amendment 80 would allocate prohibited species and target species other than Pacific cod and pollock to trawl catcher/processor vessels that are not qualified to fish for pollock under the AFA. One aspect of the analysis of alternatives being developed for Amendment 80 includes options for catch monitoring, weighing, and accounting standards for the non-AFA trawl catcher/processor sector. On June 27, 2005, NMFS conducted a workshop on the proposed standards and obtained comments from industry on various options. NMFS is conducting the December 16, 2005, workshop so that interested industry members may provide further guidance to NMFS on the development and implementation of these standards.

This workshop is physically accessible to people with disabilities. Requests for sign language interpretation or other auxiliary aids should be directed to Alan Kinsolving (see FOR FURTHER INFORMATION).

Dated: December 1, 2005.
Alan D. Risenhoover,
Acting Director, Office of Sustainable Fisheries, National Marine Fisheries Service.

[FR Doc. 05-23736 Filed 12-6-05; 8:45 am]

BILLING CODE 3510-22-S